DEPARTMENT OF COMMERCE

International Trade Administration

[A-533-895]

Common Alloy Aluminum Sheet From India: Final Results of Antidumping Duty Administrative Review; 2020-2022

AGENCY: Enforcement and Compliance, International Trade Administration, Department of Commerce.

SUMMARY: The U.S. Department of Commerce (Commerce) determines that common alloy aluminum sheet (aluminum sheet) from India was not sold in the United States at less than normal value during the period of review (POR), October 15, 2020, through March 31, 2022.

DATES: Applicable November 7, 2023.

FOR FURTHER INFORMATION CONTACT: Rachel Jennings, AD/CVD Operations, Office V, Enforcement and Compliance, International Trade Administration, U.S. Department of Commerce, 1401 Constitution Avenue NW, Washington DC 20230; telephone: (202) 482-1110.

SUPPLEMENTARY INFORMATION:

Background

On May 5, 2023, Commerce published the Preliminary Results of this administrative review and invited parties to comment on the Preliminary Results.¹ This administrative review covers two producers/exporters of aluminum sheet from India.² Commerce selected one respondent for individual examination, Hindalco Industries Limited (Hindalco).³ On August 16, 2023, Commerce extended the time period for issuing the final results of this review until November 1, 2023.⁴ For a complete description of the events that occurred since the Preliminary Results, see the Issues and Decision Memorandum.⁵

¹ See Common Alloy Aluminum Sheet from India: Preliminary Results of Antidumping Duty Administrative Review; 2020-2022, 88 FR 29082 (May 5, 2023) (Preliminary Results), and accompanying Preliminary Decision Memorandum.

² See Initiation of Antidumping and Countervailing Duty Administrative Reviews, 87 FR 35165 (June 9, 2022).

³ See Memorandum, “Respondent Selection,” dated July 1, 2022.

⁴ See Memorandum, “Extension of Deadline for Final Results of Antidumping Duty Administrative Review, 2020-2022,” dated August 16, 2023.

⁵ See Memorandum, “Issues and Decision Memorandum for the Final Results of the Administrative Review of the Antidumping Duty Order: Common Alloy Aluminum Sheet from India; 2020-2022,” dated concurrently with and hereby adopted by this notice (Issues and Decision Memorandum).

Commerce conducted this administrative review in accordance with section 751 of the Tariff Act of 1930, as amended (the Act).

Scope of the Order ⁶

⁶ See Common Alloy Aluminum Sheet from Bahrain, Brazil, Croatia, Egypt, Germany, India, Indonesia, Italy, Oman, Romania, Serbia, Slovenia, South Africa, Spain, Taiwan and the Republic of Turkey: Antidumping Duty Orders, 86 FR 22139 (April 27, 2021) (Order).

The products covered by this Order are common alloy aluminum sheet from India. For a full description of the scope, see the Issues and Decision Memorandum.

Analysis of Comments Received

All issues raised in the case and rebuttal briefs are addressed in the Issues and Decision Memorandum. A list of the issues that parties raised and to which we responded in the Issues and Decision Memorandum is attached to this notice as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties, we made certain changes to the margin calculation for these final results. However, those adjustments did not result in any changes to the estimated weighted-average dumping margin for Hindalco. For a more detailed discussion of these changes, see the Issues and Decision Memorandum.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we calculated a weighted-average dumping margin for Hindalco that is zero and we did not calculate any margins which are not zero, de minimis, determined entirely on the basis of facts available. Therefore, consistent with section 735(c)(5)(B) of the Act, we are applying to Virgo Aluminum Limited, the company not selected for individual examination in this review, a margin of zero percent.

Final Results of Review

Commerce determines that the following estimated weighted-average dumping margins exist for the period October 15, 2020, through March 31, 2022:

Exporter/producer | Weighted- average dumping margin (percent)
Hindalco Industries Limited | 0.00
Virgo Aluminum Limited | 0.00

Disclosure

Commerce intends to disclose to interested parties the calculations performed in connection with the final results within five days of any public announcement or, if there is no public announcement, within five days of the date of publication of the notice of final determination in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries covered by this review. Where the respondent's weighted-average dumping margin is either zero or de minimis (i.e., less than 0.5 percent), we will instruct CBP to liquidate the appropriate entries without regard to antidumping duties. Accordingly, because Hindalco's weighted-average dumping margin is zero percent, we will instruct CBP to liquidate the appropriate entries without regard to antidumping duties. For entries of subject merchandise during the POR produced by Hindalco for which it did not know its merchandise was destined for the United States, we will instruct CBP to liquidate unreviewed entries at the all-others rate if there is no rate for the intermediate company(ies) involved in the transaction.⁷ For the company which was not selected for individual review, Virgo Aluminum Limited, we will assign an assessment rate based on the methodology described in the “Rates for Non-Examined Companies” section, above.

⁷ For a full discussion of this practice, see Antidumping and Countervailing Duty Proceedings: Assessment of Antidumping Duties, 68 FR 23954 (May 6, 2003).

We intend to instruct CBP to take into account the “provisional measures deposit cap,” in accordance with 19 CFR 351.212(d). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for Hindalco and Virgo Aluminum Limited will be the rates established in the final results of this administrative review; (2) for merchandise exported by producers or exporters not covered in this administrative review but covered in a prior segment of the proceeding, the cash deposit rate will continue to be the company-specific rate published for the most recently completed segment of this proceeding; (3) if the exporter is not a firm covered in this review, a prior review, or the original less-than-fair-value (LTFV) investigation, but the producer is, the cash deposit rate will be the rate established for the most recently completed segment of this proceeding for the producer of the subject merchandise; and (4) the cash deposit rate for all other manufacturers or exporters will continue to be 44.64 percent, the all-others rate established in the LTFV investigation.⁸ These cash deposit requirements, when imposed, shall remain in effect until further notice.

⁸ See Common Alloy Aluminum Sheet from India: Final Affirmative Determination of Sales at Less Than Fair Value, 86 FR 13282 (March 8, 2021).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: November 1, 2023.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether Hindalco Properly Reported U.S. Gross Unit Price

Comment 2: Whether Hindalco Withheld Information About its Home Market Resales

Comment 3: Whether Hindalco Withheld Information About its Deemed Export Sales

Comment 4: Whether the Application of Total Adverse Facts Available to Hindalco is Warranted

Comment 5: Whether Hindalco Properly Reported Home Market Freight Expenses

Comment 6: Whether Hindalco's Early Payment Discounts and/or Quantity Discounts Should be Used in Calculating Normal Value

Comment 7: Whether Commerce Should Revise its Major Input Analysis

Comment 8: Whether Commerce Should Apply the Transactions Disregarded Rule to Other Affiliated Party Purchases

Comment 9: Whether Commerce Should Grant Hindalco's Reported Cost of Production Offsets

Comment 10: Whether Hindalco Misclassified Certain Products in its Cost Database

Comment 11: Whether Hindalco's Underreported its General and Administrative Expenses

VI. Recommendation

[FR Doc. 2023-24597 Filed 11-6-23; 8:45 am]

BILLING CODE 3510-DS-P